NATIONAL AERONAUTICS AND SPACE ADMINISTRATION

[Notice (06-033)]

Government-Owned Inventions, Available for Licensing

AGENCY: National Aeronautics and Space Administration.

ACTION: Notice of availability of inventions for licensing.

SUMMARY: The inventions listed below assigned to the National Aeronautics and Space Administration, have been filed in the United States Patent and Trademark office, and are available for licensing.

DATE: May 30, 2006.

FOR FURTHER INFORMATION CONTACT: David Walker, Patent Counsel, Goddard Space Flight Center, Mail Code 140.1, Greenbelt, MD 20771-0001; telephone (301) 286-7351; fax (301) 286-9502.

NASA Case No. GSC-14960-1: Conduit Purging Device and Method;

NASA Case No. GSC-14871-1: Method of Forming Pointed Structures.

Dated: May 23, 2006.
Keith T. Sefton,
Deputy General Counsel, Administration and Management.

[FR Doc. E6-8271 Filed 5-26-06; 8:45 am]

BILLING CODE 7510-13-P